DEPARTMENT OF THE INTERIOR

National Park Service

[NPS-WASO-NRNHL-DTS#-30496; PPWOCRADI0, PCU00RP14.R50000]

National Register of Historic Places; Notification of Pending Nominations and Related Actions

AGENCY: National Park Service, Interior.

ACTION: Notice.

SUMMARY: The National Park Service is soliciting electronic comments on the significance of properties nominated before June 20, 2020, for listing or related actions in the National Register of Historic Places.

DATES: Comments should be submitted electronically by July 22, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before June 20, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Denver County

Colburn Hotel, 980 Grant St., Denver, SG100005391

FLORIDA

Hernando County

Sinclair Service Station, 5299 Commercial Way, Spring Hill, SG100005385

Lake County

William Alfred Suggs Veterans of Foreign Wars Post 5277, 855 West Desoto St., Clermont, SG100005386

Liberty County

Hosford School and Gymnasium, (Florida's New Deal Resources MPS), 16827 NE FL 65, Hosford, MP100005392

Sarasota County

Sarasota County Chamber of Commerce Building, (Sarasota School of Architecture MPS), 655 North Tamiami Trail, Sarasota, MP100005395

MAINE

Cumberland County

Sagamore Village Historic District, Cabot, Purchase, Popham, Godfrey, and Josselyn Sts., and portions of Taft and Brighton Aves., Portland, SG100005397

MINNESOTA

Hennepin County

Studio 80 (Prince, 1958-1987 MPS), 2709 East 25th St., Minneapolis, MP100005399

MONTANA

Missoula County

Stark House, Address Restricted, Condon vicinity, SG100005393

Petroleum County

Howard Lepper Memorial Hall, Just west of Flatwillow Rd., Flatwillow vicinity, SG100005396

Yellowstone County

Kate Fratt Memorial Parochial School, 205 North 32nd St., Billings, SG100005389

TENNESSEE

Hamilton County

Downtown Chattanooga Historic District, Roughly bounded by Martin Luther King Jr. Blvd., Georgia Ave., East 5th., Walnut, East 6th, and Chestnut Sts., Chattanooga, SG100005387

Shelby County

Anshei Sphard-Beth El Emeth Synagogue, 120 East Yates Road North, Memphis, SG100005388

TEXAS

Bexar County

Specht's Store and Schmidt's Gin, 106 Specht Rd., Bulverde vicinity, SG100005384

Additional documentation has been received for the following resource:

MINNESOTA

Wright County

Rand, Rufus, Summer House and Carriage Barn (Additional Documentation), (Wright County MRA), 506 Old Territorial Rd. and 602 Fallon Ave. NE, Monticello, AD79001275

Authority: Section 60.13 of 36 CFR part 60

Dated: June 23, 2020.
Sherry A. Frear,
Chief, National Register of Historic Places/National Historic Landmarks Program.

[FR Doc. 2020-14506 Filed 7-6-20; 8:45 am]

BILLING CODE 4312-52-P